EXPORT-IMPORT BANK OF THE UNITED STATES

[Public Notice 2013-0115]

Agency Information Collection Activities: Final Collection; Comment Request

AGENCY: Export-Import Bank of the United States.

ACTION: Submission for OMB Review and Comments Request.

SUMMARY: The Export-Import Bank of the United States (Ex-Im Bank), as a part of its continuing effort to reduce paperwork and respondent burden, invites the general public and other Federal Agencies to comment on the proposed information collection, as required by the Paperwork Reduction Act of 1995.

The form represents the exporter's directive to Ex-Im Bank to whom and where the insurance proceeds should be sent, and also describes the duties and obligations that have to be met by the financial institution in order to share in the policy proceeds. The form is typically part of the documentation required by financial institution lenders in order to provide financing of an exporter's foreign accounts receivable. Foreign accounts receivable insured by Ex-Im Bank represent stronger collateral to secure the financing. By recording which policyholders have completed this form, Ex-Im Bank is able to determine how many of its exporter policyholders require Ex-Im Bank insurance policies to support lender financing.

The form can be viewed at www.exim.gov/pub/pending/eib99-17.pdf.

DATES: Comments should be received on or before March 21, 2013 to be assured of consideration.

ADDRESSES: Comments maybe submitted electronically on www.regulations.gov or by mail to Office of Information and Regulatory Affairs, 725 17th Street NW., Washington, DC 20038 Attn: OMB 3048-EIB99-17.

SUPPLEMENTARY INFORMATION:

Titles and Form Number: EIB 99-17 Enhanced Assignment of Policy Proceeds.

OMB Number: 3048-xxxx.

Type of Review: New.

Need and Use: This collection of information is used by exporters to convey legal rights to, and describe the duties and obligations that have to be met by their financial institution lender in order to share insurance policy proceeds from Ex-Im Bank approved insurance claims.

Affected Public: This form affects entities involved in the export of U.S. goods and services.

Public Burden

The number of respondents: 110.

The frequency of response: Annually.

Response Burden: 15 minutes.

Government Burden

Reviewing Time: 1 hour.

Responses/year: 110.

Review time/year: 110 hours.

Avg Wages/hr: $30.25.

Avg wage/year: $3,327.5.

Benefits & Overhead: 28%.

Total Government Cost: $4,259.20.

Sharon A. Whitt,
Agency Clearance Officer.

[FR Doc. 2013-03628 Filed 2-15-13; 8:45 am]

BILLING CODE 6690-01-P